DEPARTMENT OF TRANSPORTATION

Public Availability of the Department of Transportation FY 2015 Service Contract Inventory

AGENCY: Department of Transportation.

ACTION: Notice of Public Availability of FY 2015 Service Contract Inventories.

SUMMARY: In accordance with section 743 of Division C of the Consolidated Appropriations Act of 2010, Public Law 111-117, Department of Transportation is publishing this notice to advise the public of the availability of the FY 2015 Service Contact Inventory data, the summary spreadsheet, the supplement, the analysis of the FY 2014 data and the plan for analyzing the FY 2015 data. This inventory provides information on service contract actions over $25,000 awarded in FY 2015. The information is organized by function to show how contracted resources are distributed throughout the agency.

The inventory has been developed in accordance with guidance issued on November 5, 2010 by the Office of Management and Budget's Office of Federal Procurement Policy (OFPP). OFPP's guidance is available at https://www.whitehouse.gov/sites/default/files/omb/procurement/memo/service-contract-inventories-guidance-11052010.pdf. Department of Transportation has posted its FY 2015 Service Contact Inventory data, the summary spreadsheet, the supplement, the analysis of the FY 2014 data and the plan for analyzing the FY 2015 data on the Department of Transportation's homepage at the following link: https://www.transportation.gov/assistant-secretary-administration/procurement/service-contract-inventory. Questions regarding the Service Contract Inventory should be directed to Diane Morrison in the Office of the Senior Procurement Executive at 202-366-4960 or diane.morrison@dot.gov.

Dated: April 13, 2016.
Gregory Cate,
Deputy Director, Office of Senior Procurement Executive.

[FR Doc. 2016-10659 Filed 5-5-16; 8:45 am]

BILLING CODE 4910-9X-P